DEPARTMENT OF HEALTH AND HUMAN SERVICES

Administration for Children and Families

Proposed Information Collection Activity; Child Support Annual Data Report and Instructions (OCSS-157) (Office of Management and Budget #: 0970-0177)

AGENCY: Office of Child Support Services; Administration for Children and Families; U.S. Department of Health and Human Services.

ACTION: Request for public comments.

SUMMARY: The Administration for Children and Families (ACF), Office of Child Support Services (OCSS), is requesting the Office of Management and Budget (OMB) to approve the Child Support Annual Data Report and Instructions (OCSS-157), with minor revisions, for an additional three years. The current OMB approval expires on March 31, 2025.

DATES: Comments due September 24, 2024. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: States must annually provide OCSS with information on their case inventory, performance status, and accomplishments in the following areas: paternity establishment; services requested and provided; medical support; collections due and distributed; staff; program expenditures; non-cooperation and good cause; and administrative enforcement. The information collected from the OCSS-157 allows OCSS to (1) report child support activities to Congress as required by law; (2) calculate states' incentive measures for performance and assess performance indicators used in the program; and (3) help OCSS monitor and evaluate state child support programs. OCSS made minor revisions to the instructions and report to make them easier for the respondents to understand and complete. Additionally, OCSS updated the name of the federal child support office from the Office of Child Support Enforcement (OCSE) to the Office of Child Support Services (OCSS).

Respondents: State Child Support Agencies

Annual Burden Estimates
Information collection instrument | Total number of annual respondents | Number of annual responses per respondent | Average annual burden hour per response | Annual burden hours
OCSS Annual Data Report and Instructions (OCSS-157) | 54 | 1 | 7 | 378

Comments: The Department specifically requests comments on:

(a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

Authority: 42 U.S.C. 652(a)and(g)and 669

Mary C. Jones,
ACF/OPRE Certifying Officer.

[FR Doc. 2024-16432 Filed 7-25-24; 8:45 am]

BILLING CODE 4184-41-P